DEPARTMENT OF THE INTERIOR

Fish and Wildlife Service

Waccamaw National Wildlife Refuge

AGENCY: Fish and Wildlife Service, Department of Interior.

ACTION: Notice of availability of the Draft Comprehensive Conservation Plan and Environmental Assessment for Waccamaw National Wildlife Refuge.

SUMMARY: The Fish and Wildlife Service announces that a Draft Comprehensive Conservation Plan and Environmental Assessment (Draft CCP/EA) for Waccamaw National Wildlife Refuge in Georgetown, Horry, and Marion Counties, South Carolina, is available for distribution. This Draft CCP/EA was prepared pursuant to the National Wildlife Refuge System Administration Act of 1997, and the National Environmental Policy Act of 1969, and describes the Service's proposal for management of this refuge over the next 15 years.

DATES: Written comments must be received at the postal address listed below no later than March 14, 2008.

ADDRESSES: To provide written comments or to obtain a copy of the Draft CCP/EA, please write to: Mr. Craig Sasser, Refuge Manager, Waccamaw National Wildlife Refuge, 1601 North Fraser Street, Georgetown, SC 29440. The Draft CCP/EA may also be accessed and downloaded from the Service's Internet site: http://southeast.fws.gov.planning.

FOR FURTHER INFORMATION CONTACT: Mr. Craig Sasser, Refuge Manager, at Telephone: 843-527-8069 or 843-509-1514; E-mail: marshall_sasser@fws.gov.

SUPPLEMENTARY INFORMATION:

Public Availability of Comments: Before including your address, phone number, e-mail address, or other personal identifying information in your comment, you should be aware that your entire comment, including your personal identifying information, may be made publicly available at any time. While you can ask us in your comments to withhold your personal identifying information from public review, we cannot guarantee that we will be able to do so.

Background: Waccamaw National Wildlife Refuge is currently 18,251 acres in size (within an approved acquisition boundary of 54,000 acres), and was established in 1997 for the following purposes: (1) To protect and manage diverse habitat components within an important coastal river ecosystem for the benefit of threatened and endangered species, freshwater and anadromous fish, migratory birds, and forest wildlife, including a wide array of plants and animals associated with bottomland hardwood habitats; and (2) to provide compatible wildlife-dependent recreational activities, including hunting, fishing, wildlife observation, wildlife photography, and environmental education and interpretation.

Significant issues raised by the public and addressed in the Draft CCP/EA include: conserving migratory waterfowl, neotropical migratory birds, and black bears; increasing opportunities for hunting, fishing, wildlife observation, wildlife photography, and environmental education and interpretation; developing a new visitor center; acquiring parcels from willing sellers within the approved refuge acquisition boundary; restoring longleaf pine forests; developing partnerships with the State and non-governmental organizations, and protecting Bull Island as wilderness. The Service developed four alternatives for management of the refuge (Alternatives A, B, C, and D), with Alternative D as the Service's proposed alternative.

Alternative A (Current Management)

Under this alternative, Waccamaw Refuge would continue its current management. No active, direct management of waterfowl populations would occur. With regard to neotropical migratory birds, the refuge would continue to conduct informal surveys on swallow-tailed kites and Swainson's warblers on an occasional basis. Incidental observations of black bear on the refuge would be compiled. Threatened and endangered species would continue to be protected on appropriate refuge habitats. Each of the recreational uses as identified in the National Wildlife Refuge System Improvement Act of 1997 would continue.

Alternative B (Habitat Restoration/Enhancements on Unit 1)

Under this alternative, the refuge would focus on habitat restoration efforts and enhancements on Unit 1, which consists of 34,784 acres (including acreage within the acquisition boundary not owned by the refuge) and is made up entirely of alluvial and black water floodplain forested wetlands. The refuge would aim to improve wintering waterfowl habitat on approximately 600 acres on Unit 1 by restoring hydrology. With regard to neotropical migratory birds and black bears, Alternative B would be the same as Alternative A. With regard to threatened and endangered species, Alternative B's proposed hydrology restoration on Unit 1 would enhance its existing wood stork rookery. All existing recreational uses would be continued and additional wildlife-dependent public uses would be implemented.

Alternative C (Habitat Restoration/Enhancement on All Units)

Under this alternative, the refuge would focus habitat restoration efforts and enhancements on all units of the refuge—Units 1, 2, and 3. Unit 1 consists of 34,784 acres of alluvial and black water floodplain forested wetlands. Unit 2 consists of 12,046 acres, with approximately 6,362 acres of upland longleaf pine forest and tidal forested and emergent wetlands. Unit 3 consists of 2,902 acres and contains historic rice fields, many of which remain intact and are managed for wintering waterfowl. Management of migratory waterfowl and neotropical migratory birds would be the same as Alternatives A and B. Management of black bears would be more active under this alternative. Refuge acquisition and habitat restoration efforts within wetland corridors would be targeted to improve connectivity between bear populations. Management of threatened and endangered species would generally be the same as Alternative B, restoring the hydrology on Unit 1 to enhance the existing wood stork rookery. In addition, it would restore wood stork feeding areas on Unit 3 and red-cockaded woodpecker nesting and foraging habitat on Unit 2. Recreational use of the refuge would remain the same as Alternatives A and B, but would expand hunting opportunities. It would explore the potential for a youth waterfowl hunt on managed wetlands. In addition, opportunities for wildlife observation, wildlife photography, and environmental education and interpretation would be expanded.

Alternative D (Optimize Habitat Management and Visitor Services)—Proposed Alternative

Under this alternative, habitat management and visitor services throughout the refuge would be optimized. Management of waterfowl and migratory birds would be the same as Alternatives B and C; however, management of black bears would be stepped up from that of the previous three alternatives. This alternative would conduct annual surveys of black bears and attempt to enlist public participation in gathering, recording, and compiling sightings. Management of threatened and endangered species would generally be the same as Alternative C—restoring the hydrology on Unit 1 to enhance the existing wood stork rookery, restoring wood stork feeding areas on Unit 3, and red-cockaded woodpecker nesting and foraging habitat on Unit 2. Recreational use of the refuge would continue. This alternative would expand on hunting opportunities for deer and hog by considering a hunt by mobility-impaired individuals. It would potentially include a youth waterfowl hunt on refuge management lands. Over the lifetime of the CCP, this alternative would call for reducing deer herd density to improve herd health and to improve habitat quality for other species. This alternative would identify the 4,600-acre Bull Island as a proposed Wilderness Study Area. The Service would maintain its wilderness character, and within 10 years of approval of the comprehensive conservation plan, would prepare a wilderness study report and additional NEPA documentation on whether Bull Island should be formally designated by Congress as a unit of the National Wilderness Preservation System. The refuge would prepare and implement a Visitor Services' Plan and expand most wildlife-dependent public uses in a number of ways.

Authority: This notice is published under the authority of the National Wildlife Refuge System Improvement Act of 1997, Public Law 105-57.

Dated: November 30, 2007.
Cynthia K. Dohner,
Acting Regional Director.

[FR Doc. E8-2628 Filed 2-12-08; 8:45 am]

BILLING CODE 4310-55-P